DEPARTMENT OF ENERGY

Federal Energy Regulatory Commission

[Project No. 2891-017]

City of Tallahassee; Notice of Availability of Environmental Assessment

In accordance with the National Environmental Policy Act of 1969 and the Federal Energy Regulatory Commission's (Commission) regulations, 18 CFR part 380 (Order No. 486, 52 FR 47897), the Office of Energy Projects has reviewed an application submitted by the City of Tallahassee (licensee) to surrender the project license for the Jackson Bluff Hydroelectric Project No. 2891. The project is located on the Ochlockonee River in Leon, Liberty, and Gadsden counties, Florida. The project does not occupy federal lands.

An environmental assessment (EA) has been prepared as part of staff's review of the proposal. In the application the licensee proposes to decommission the power generating capability both electrically and hydraulically. No modifications to the existing dam or project-related buildings are proposed. All decommissioning work would occur at the powerhouse. The EA contains Commission staff's analysis of the probable environmental impacts of the proposed action and concludes that approval of the proposal would not constitute a major federal action significantly affecting the quality of the human environment.

The EA is available for review and reproduction at the Commission's Public Reference Room, located at 888 First Street NE, Room 2A, Washington, DC 20426. The EA may also be viewed on the Commission's website at http://www.ferc.gov using the “elibrary” link. Enter the docket number (P-2891) in the docket number field to access the document. For assistance, contact FERC Online Support at FERCOnlineSupport@ferc.gov or toll-free at 1-866-208-3372, or for TTY, (202) 502-8659.

Dated: December 10, 2018.
Kimberly D. Bose,
Secretary.

[FR Doc. 2018-27183 Filed 12-17-18; 8:45 am]

BILLING CODE 6717-01-P